DEPARTMENT OF ENERGY

Federal Energy Regulatory Commission

[Docket No. CP12-3-000]

Kern River Gas Transmission Company; Notice of Request Under Blanket Authorization

Take notice that on October 6, 2011, Kern River Gas Transmission Company (Kern River) filed a prior notice application pursuant to sections 157.205, 157.208 and 157.210 of the Federal Energy Regulatory Commission's regulations under the Natural Gas Act (NGA), and Kern River's blanket certificate issued in Docket No. CP89-2048, to relocate approximately 1.2 mile segments of each of Kern River's 36-inch-diameter mainlines in Salt Lake County, Utah. Kern River proposed the relocation to accommodate construction of the Mountain View Corridor highway, a project of the Utah Department of Transportation. Kern River States that the replacement facilities will have the same throughput capacity as the current facilities, all as more fully set forth in the application, which is open to the public for inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Any questions regarding this application should be directed to Michael Loeffler, Senior Director, Certificates, Kern River Gas Transmission Company, 1111 South 103 Street, Omaha, Nebraska 68124, at (402) 398-7103, or to Sheldon Byde, Senior Regulatory Analyst, Kern River Gas Transmission Company, 2755 E. Cottonwood Parkway, Suite 300, Salt Lake City, Utah 84121, at (801) 937-6163.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (http://www.ferc.gov) under the “e-Filing” link. Persons unable to file electronically should submit an original and 14 copies of the protest or intervention to the Federal Energy Regulatory Commission, 888 First Street, NE., Washington, DC 20426.

Dated: October 18, 2011.
Kimberly D. Bose,
Secretary.

[FR Doc. 2011-27426 Filed 10-21-11; 8:45 am]

BILLING CODE 6717-01-P